Title 3—

The President

Proclamation 8407 of August 31, 2009

National Ovarian Cancer Awareness Month, 2009

By the President of the United States of America

A Proclamation

Ovarian cancer remains the leading cause of death from gynecologic cancer among women in the United States. Every year, thousands are diagnosed and go on to fight the disease with grace and dignity. National Ovarian Cancer Awareness Month honors all those affected by this cancer and renews our commitment to fighting an illness that takes the lives of too many in our Nation.

Women are often diagnosed with ovarian cancer when it is already at an advanced stage. This problem can be attributed to a lack of effective early detection technologies and minimal or no specific symptoms associated with the disease. By learning more about risk factors and maintaining regular physician consultations, women have their best chance of early detection of ovarian cancer.

Science continues to expand our knowledge about this illness, promising hope to those who, years ago, would be without it. Through dedicated research, treatment outcomes have improved for many, and we are building a foundation for the development of evidence-based screening, which can help diagnose the disease at the earliest possible stage when the likelihood of cure is high.

This month we recommit to supporting the women who continue to battle valiantly against this malady as well as all families who are affected. National Ovarian Cancer Awareness Month helps educate women and men about the importance of knowing common signs and symptoms, scheduling routine doctor visits, and continuing robust scientific research. As a Nation, we are united in our resolve to reduce incidence and improve the lives of all those affected.

NOW, THEREFORE, I, BARACK OBAMA, President of the United States of America, by virtue of the authority vested in me by the Constitution and laws of the United States, do hereby proclaim September 2009 as National Ovarian Cancer Awareness Month. I encourage citizens, Government agencies, private businesses, nonprofit organizations, and other interested groups to join in activities that will increase awareness of what Americans can do to prevent and control ovarian cancer.

IN WITNESS WHEREOF, I have hereunto set my hand this thirty-first day of August, in the year of our Lord two thousand nine, and of the Independence of the United States of America the two hundred and thirty-fourth.

[FR Doc. E9-21501

Filed 9-2-09; 11:15 am]

Billing code 3195-W9-P